DEPARTMENT OF DEFENSE

Department of the Army, U.S. Army Corps of Engineers

Request for Proposals for Beneficial Use of Dredged Material Pursuant to Section 1122 of the Water Resources Development Act, Beneficial Use of Dredged Material

AGENCY: U.S. Army Corps of Engineers, DoD.

ACTION: Notice; request for proposals.

SUMMARY: Section 1122 of the Water Resources Development Act (WRDA) of 2016 requires the U.S. Army Corps of Engineers (USACE) establish a pilot program to recommend ten projects for the beneficial use of dredged material. The USACE is requesting proposals for beneficial use of dredged material projects.

DATES: Proposals must be submitted to Headquarters U.S. Army Corps of Engineers on or before March 12, 2018.

ADDRESSES: You may submit proposals by any of the following methods:

• Mail: Headquarters, U.S. Army Corps of Engineers, Directorate of Civil Works, Operations and Regulatory Community of Practice, Attn: CECW-CO-OD, 441 G Street NW, Washington, DC 20314.

• Email: Section-1122-Beneficial-Use-Of-Dredged-Material@usace.army.mil

FOR FURTHER INFORMATION CONTACT: Mr. Joseph Wilson, Environmental Dredging Program Manager, at 202-761-7697, or email: joseph.r.wilson@usace.army.mil.

SUPPLEMENTARY INFORMATION: Section 1122 of WRDA 2016 requires the USACE establish a pilot program to carry out 10 projects for the beneficial use of dredged material, including projects for the purposes of—

(1) Reducing storm damage to property and infrastructure;

(2) promoting public safety;

(3) protecting, restoring, and creating aquatic ecosystem habitats;

(4) stabilizing stream systems and enhancing shorelines;

(5) promoting recreation;

(6) supporting risk management adaptation strategies; and

(7) reducing the costs of dredging and dredged material placement or disposal, such as projects that use dredged material for—

(A) construction or fill material;

(B) civic improvement objectives; and

(C) other innovative uses and placement alternatives that produce public economic or environmental benefits.

The USACE has developed implementation guidance for carrying out the provisions of Section 1122. That implementation guidance can be obtained at http://www.usace.army.mil/Missions/Civil-Works/Project-Planning/Legislative-Links/wrda2016/wrda2016_impguide. Search Section 1122(a)-(h) for links to the implementation guidance and other Section 1122 information.

The USACE is required to carry out the pilot program in consultation with relevant state agencies and to establish regional beneficial use teams to identify and assist in the implementation of projects.

Projects identified under Section 1122 must maximize the beneficial placement of dredged material from Federal and non-Federal navigation channels and incorporate, to the maximum extent practicable, two or more Federal navigation, flood control, storm damage reduction, or environmental restoration projects. Section 1122 also requires coordination and mobilization of dredges and related equipment, including the use of efficiencies in contracting and environmental approvals as can be implemented under existing laws and regulations.

Implementation must foster Federal and State and local collaboration; implement best practices to maximize the beneficial use of dredged sand and other sediments; and ensure that the use of dredged material is consistent with all applicable environmental laws.

Projects carried out under Section 1122 will be subject to the cost-sharing requirements applicable to projects carried out under Section 204 of the Continuing Authorities Program. However, for projects under the pilot program that use dredged material from federal navigation projects, Section 1122(e)(2) provides the incremental costs above the federal standard for transportation and depositing such dredged material will be borne entirely by the federal government. If such pilot projects involve additional activities other than transportation and placement of dredged material, such as wetland plantings or mechanical shaping of dunes and beach berms, those project costs will be shared in accordance with the cost sharing requirements of Section 204. If additional material is dredged from a federal navigation project solely for purposes of a pilot project, the costs associated with the additional dredging will be cost-shared with the non-federal sponsor of the pilot project in accordance with Section 204. If a pilot project relies on dredged material from a non-federal navigation project, the dredging and transportation costs will be 100 percent non-federal; all other costs associated with the pilot project will be cost-shared in accordance with Section 204.

Within two years the Secretary is to submit a report to the Congress that includes:

(1) A description of the projects selected to be carried out under the pilot program;

(2) documentation supporting each of the projects selected;

(3) the findings of regional beneficial use teams regarding project selection; and

(4) any recommendations of the Secretary or regional beneficial use teams with respect to the pilot program.

The pilot program terminates after completion of the 10 beneficial use projects.

Entities submitting proposals for a project must include the following information:

1. Name and location of the proposed project.

2. Purpose of the proposed project (see paragraph 5 of the Implementation Guidance).

3. Description of the proposed project, including more detail on how material will be used beneficially to meet project purposes identified in 2 above.

4. The name of all non-federal interests planning to act as the sponsor, including any non-federal interest that has contributed to or is expected to contribute toward the non-federal share of the proposed beneficial use project.

5. List the authorized U.S. Army Corps of Engineers (Corps) water resources development project(s) that the proposed beneficial use project is associated with.

6. Provide an estimate, to the extent practicable, of the total beneficial use project cost, and the federal and non-federal share of those costs.

7. Describe, to the extent practicable, an estimate of the anticipated monetary and non-monetary benefits of the proposed beneficial use project with regard to the environmental, economic, and social benefits of the project.

8. Describe if local support exists for the proposal.

9. Statement of the non-federal interest's financial ability to provide a share of the project costs.

Dated: February 5, 2018.
Thomas P. Smith,
Chief Operations and Regulatory Division, U.S. Army Corps of Engineers.

[FR Doc. 2018-02613 Filed 2-8-18; 8:45 am]

BILLING CODE 3720-58-P